DEPARTMENT OF THE TREASURY

Internal Revenue Service

26 CFR Part 1

[REG-151135-07]

RIN-1545-BH39

Multiemployer Plan Funding Guidance; Correction

AGENCY: Internal Revenue Service (IRS), Treasury.

ACTION: Correction to notice of proposed rulemaking.

SUMMARY: This document corrects a notice of proposed rulemaking (REG-151135-07) that was published in the Federal Register on Tuesday, March 18, 2008 (73 FR 14417), that provides additional rules for certain multiemployer defined benefit plans that are in effect on July 16, 2006.

FOR FURTHER INFORMATION CONTACT: Bruce Perlin, (202) 622-6090 (not a toll-free number).

SUPPLEMENTARY INFORMATION:

Background

The notice of proposed rulemaking (REG-151135-07) that is the subject of this correction is under section 432 of the Internal Revenue Code.

Need for Correction

As published, REG-151135-07 contains an error that may prove to be misleading and is in need of clarification.

Correction of Publication

Accordingly, the publication of the notice of proposed rulemaking (REG-151135-07) that was the subject of FR Doc. 08-1044, is corrected as follows:

On page 14420, column 3, in the preamble, under the paragraph title “§ 1.432(a)-1 General Rules Relating to Section 432”, first paragraph, line 1, the language “Section 1.432-1 provides general” is corrected to read “Section 1.432(a)-1 provides general”.

LaNita Van Dyke,
Chief, Publications and Regulations Branch, Legal Processing Division, Associate Chief Counsel (Procedure and Administration).

[FR Doc. E8-7558 Filed 4-9-08; 8:45 am]

BILLING CODE 4830-01-P